DEPARTMENT OF THE INTERIOR

Bureau of Land Management

[LLCA 942000, L57000000.BX0000]

Filing of Plats of Survey: California

AGENCY: Bureau of Land Management, Interior.

ACTION: Notice.

SUMMARY: The plats of survey of lands described below were officially filed in the Bureau of Land Management California State Office, Sacramento, California, on the next business day following the plat acceptance date.

ADDRESSES: A copy of the plats may be obtained from the Land Office at the California State Office, Bureau of Land Management, 2800 Cottage Way, Sacramento, California 95825, upon required payment.

FOR FURTHER INFORMATION CONTACT: Chief, Branch of Geographic Services, Bureau of Land Management, California State Office, 2800 Cottage Way, Room W-1623, Sacramento, California 95825, (916) 978-4310.

SUPPLEMENTARY INFORMATION: These surveys were executed to meet the administrative needs of various Federal agencies. A person or party who wishes to protest against a survey must file a notice that they wish to protest (at the above address) with the California State Director, Bureau of Land Management, Sacramento, California. The lands surveyed are:

Humboldt Meridian, California

T. 12 N., R. 2 E., Dependent Resurvey and Subdivision, accepted February 14, 2011.

Mount Diablo Meridian, California

T. 28 N., R. 3 W., Dependent Resurvey and Metes-and-Bounds Survey, accepted January 6, 2011.

T. 6 N., R. 22 E., Dependent Resurvey, Subdivision and Survey of Tracts, accepted January 28, 2011.

T. 4 S., R. 34 E., Metes-and-Bounds Survey and Informative Traverse, accepted February 1, 2011.

T. 7 N., R. 16 E., Dependent Resurvey and Subdivision, accepted February 23, 2011.

T. 26 S., R. 37 E., Dependent Resurvey, Subdivision and Metes and Bound, accepted February 25, 2011.

T. 12 N., R. 16 W., Dependent Resurvey and Subdivision and Metes and Bounds, accepted February 28, 2011.

T. 10 N., R. 18 E., Dependent Resurvey and Subdivision, accepted March 15, 2011.

San Bernardino Meridian, California

T. 8 S., R. 2 W., Dependent Resurvey and Subdivision of Sections, accepted January 5, 2011.

T. 8 S., R. 2 W., Dependent Resurvey and Subdivision of Sections, accepted January 6, 2011. The purpose of the survey is to meet the requirements of the legislation, Pechanga Band of Luiseno Mission Indians Land Transfer Act of 2007, Public Law 110-383, October 10, 2008. The act provided for the transfer of the BLM managed lands in secs. 24, 29, 31 and 32, T. 8 S., R. 2 W., and sec. 6, T. 9 S., R. 2 W., S.B.M. to said Mission Indians and described as follows: The E ½ SE ¼, SW ¼ SE ¼ and S ½ SW ¼ of sec. 24, Lot 2 and SW ¼ SW ¼ of sec. 29, the E ½, E ½ SW ¼, Lot 4 and SE ¼ NW ¼ of sec. 31, and the N ½ SE ¼, NE ¼ SW ¼ and NW ¼ of sec. 32, T. 8 S., R. 2 W., and Lots 2, 3, 13 and 15 of sec. 6, T. 9 S., R. 2 W., San Bernardino Meridian, California.

T. 5 S., R. 4 E., Dependent Resurvey, accepted January 6, 2011.

T. 8 N., R. 6 E., Dependent Resurvey, accepted January 21, 2011.

T. 9 N., R. 5 E., Retracement and Dependent Resurvey, accepted January 21, 2011.

T. 9 N., R. 6 E., Retracement, accepted January 21, 2011.

T. 1 N., R. 3 W., Dependent Resurvey, Subdivision and Metes-and-Bounds Survey, accepted February 1, 2011.

Authority: 43 U.S.C., Chapter 3.

Dated: April 4, 2011.
Lance J. Bishop,
Chief Cadastral Surveyor, California.

[FR Doc. 2011-9234 Filed 4-15-11; 8:45 am]

BILLING CODE 4310-40-P